DEPARTMENT OF TRANSPORTATION

Surface Transportation Board

[STB Ex Parte No. 657 (Sub-No. 1)]

Major Issues in Rail Rate Cases

AGENCY: Surface Transportation Board.

ACTION: Notice of proposed guidelines.

SUMMARY: The Surface Transportation Board has instituted a proceeding to seek public comments on proposed changes to its stand-alone cost methodology, on whether to continue to permit movement-specific adjustments to its Uniform Railroad Costing System in rail rate reasonableness cases, and on the proper standards for reopening and vacating a prior rate decision that is based upon a stand-alone cost analysis. These changes are intended to resolve major issues common to all rail rate complaints seeking relief under the agency's stand-alone cost test.

DATES: Notices of intent to participate are due on March 20, 2006. Comments are due on May 1, 2006. Replies are due on May 31, 2006. Rebuttals are due on June 30, 2006.

ADDRESSES: All notices of intent to participate and comments may be submitted either via the Board's e-filing format or in the traditional paper format. Any person using the e-filing should comply with the instructions found on the Board's Web site, http://www.stb.dot.gov, at the “E-FILING” link. Any person submitting a filing in the traditional paper format should send an original and 20 paper copies of the filing (referring to STB Ex Parte No. 657 (Sub-No. 1) to: Surface Transportation Board, 1925 K Street, NW., Washington, DC 20423-0001.

FOR FURTHER INFORMATION CONTACT: Joseph Dettmar, 1-202-565-1609. [Assistance for the hearing impaired is available through the Federal Information Relay Service (FIRS) at 1-800-877-8339.]

SUPPLEMENTARY INFORMATION: The Surface Transportation Board (Board) is instituting a proceeding in STB Ex Parte No. 657 (Sub-No. 1) to obtain public comments on proposed changes to its stand-alone cost (SAC) methodology, on whether to continue to permit movement-specific adjustments to its Uniform Railroad Costing System (URCS) in rail rate reasonableness cases, and on the proper standards for reopening and vacating a prior rate decision that is based upon a SAC analysis. First, the Board presents two alternatives to the percent reduction method to determine maximum reasonable rates. Second, the Board proposes a new cost-based method for allocating revenue from cross-over traffic. Third, the Board proposes a method for forecasting future operating expenses of a stand-alone railroad (SARR) that would reflect anticipated future productivity gains. Fourth, the Board proposes to no longer permit movement-specific adjustments to URCS when calculating the 180% revenue-to-variable cost (R/VC) jurisdictional floor for rail rate relief. Fifth, the Board proposes to shorten the time frame for SAC analyses and corresponding rate prescriptions from 20 years to 10 years. Finally, the Board proposes new standards for reopening and vacating a prior Board decision (including any resulting rate prescription) that is based on a SAC analysis.

In a decision served on February 27, 2006, the Board has discussed each of these issues in detail and set forth proposed solutions to the identified problems. Each of these issues is being revisited to ensure that both the SAC test and the jurisdictional floor for rate relief are applied fairly and in conformity with the Board's statutory charge. Because these issues go to the heart of the SAC test and have industry-wide significance for rail carriers and their captive shippers, all interested parties are invited to comment on these proposed changes.

Additional information is contained in the Board's decision. To obtain a free copy of the full decision, visit the Board's Web site at http://www.stb.dot.gov. A service list will be available at the Board's Web site by March 31, 2006. Comments, replies and rebuttals should be served on all persons designated on the list as a party of record.

This action should not have a significant economic impact upon a substantial number of small entities, within the meaning of the Regulatory Flexibility Act (5 U.S.C. 601 et seq.). To the extent that small entities may be affected, the impact should be beneficial, because these proposals will resolve several contentious issues in SAC proceeding, and simplify the jurisdictional inquiry. The Board, however, invites comments on whether there would be effects on small entities that should be considered.

This action will not significantly affect either the quality of the human environment or the conservation of energy resources.

Decided: February 27, 2006.
By the Board, Chairman Buttrey and Vice Chairman Mulvey.
Vernon A. Williams,
Secretary.

[FR Doc. E6-3049 Filed 3-2-06; 8:45 am]

BILLING CODE 4915-01-P